NUCLEAR REGULATORY COMMISSION

[NRC-2020-0190]

Information Collection: US NRC Acquisition Regulation

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “US NRC Acquisition Regulation.”

DATES: Submit comments by July 28, 2021. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0190 when contacting the NRC about the availability of information for this action. You may obtain publicly available information related to this action by any of the following methods; however, the NRC encourages electronic comment submission through the Federal Rulemaking website:

• Federal Rulemaking Website: Go to https://www.regulations.gov/ and search for Docket ID NRC-2020-0190. A copy of the collection of information and related instructions may be obtained without charge by accessing Docket ID NRC-2020-0190 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement and burden spreadsheet are available in ADAMS under Accession Nos. ML21168A186 and ML21168A187.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov/ and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. chapter 35), the NRC recently submitted a request for renewal of an existing collection of information to OMB for review entitled, “US NRC Acquisition Regulation.” The NRC hereby informs potential respondents that an agency may not conduct or sponsor, and that a person is not required to respond to, a collection of information unless it displays a currently valid OMB control number.

The NRC published a Federal Register notice with a 60-day comment period on this information collection on March 9, 2021 (86 FR 13589).

1. The title of the information collection: “US NRC Acquisition Regulation.”

2. OMB approval number: 3150-0169.

3. Type of submission: Extension.

4. The form number, if applicable: Not applicable.

5. How often the collection is required or requested: Monthly, once (at time of award), and on occasion (when changes occur).

6. Who will be required or asked to respond: Contractors and bidders.

7. The estimated number of annual responses: 6,258 (6,112 reporting responses + 146 recordkeepers).

8. The estimated number of annual respondents: 535.

9. The estimated number of hours needed annually to comply with the information collection requirement or request: 17,412 (14,834 reporting + 2,578 recordkeeping).

10. Abstract: The mandatory requirements of the Nuclear Regulatory Commission Acquisition Regulation (NRCAR) implement and supplement the government-wide Federal Acquisition Regulation (FAR) and ensure that the regulations governing the procurement of goods and services with the NRC satisfy the needs of the agency. This includes reports and recordkeeping requirements for certain contractors or offerors to submit a monthly progress report that summarizes work performed during the previous month, and/or retain records of equipment, payroll, inspection and quality control records, as applicable. Because of differing statutory authorities among Federal agencies, the FAR permits agencies to issue a regulation to implement FAR policies and procedures internally to satisfy the specific need of the agency. The NRCAR includes policies, procedures, solicitation provisions and contract clauses needed to ensure effective and efficient evaluation, negotiation, and administration of agency acquisitions. Certain reports, such as reports of contractor organizational conflicts of interest or changes in key personnel are collected from contractors on as needed basis as changes occur, whether at the time of award or throughout the life of the contract. Some reports are required to be submitted monthly such as the Financial Status report and Technical Progress Report. There are also some reports that bidders are required to submit upon request, such as responses to pre-award questions that demonstrate their ability to meet minimum standards set forth in FAR.

Dated: June 22, 2021.
For the Nuclear Regulatory Commission.
David C. Cullison,
NRC Clearance Officer, Office of the Chief Information Officer.

[FR Doc. 2021-13661 Filed 6-25-21; 8:45 am]

BILLING CODE 7590-01-P